NATIONAL AERONAUTICS AND SPACE ADMINISTRATION

[Notice: 20-058]

NASA Advisory Council; Aeronautics Committee; Meeting

AGENCY: National Aeronautics and Space Administration.

ACTION: Notice of meeting.

SUMMARY: In accordance with the Federal Advisory Committee Act, as amended, the National Aeronautics and Space Administration (NASA) announces a meeting of the Aeronautics Committee of the NASA Advisory Council (NAC). This meeting will be held for soliciting, from the aeronautics community and other persons, research and technical information relevant to program planning.

DATES: Wednesday, July 8, 2020, 10:00 a.m.-6:00 p.m., Eastern Time.

ADDRESSES: Virtual meeting via dial-in teleconference and WebEx only.

FOR FURTHER INFORMATION CONTACT: Ms. Irma Rodriguez, Designated Federal Officer, Aeronautics Research Mission Directorate, NASA Headquarters, Washington, DC 20546, (202) 527-4826, or irma.c.rodriguez@nasa.gov.

SUPPLEMENTARY INFORMATION: As noted above, this meeting will be available telephonically and by WebEx only. You must use a touch-tone phone to participate in this meeting. Any interested person may dial the toll-free access number 1-888-769-8716 and then the numeric participant passcode: 6813159 to participate in the meeting. NOTE: Please “mute” your phone. The WebEx link is https://nasaenterprise.webex.com, the meeting number is 908 912 695, and the password is gJkZYZu$239 (case sensitive). The agenda for the meeting includes the following topics:

—COVID-19 Impacts and Industry Response

—Future Flight Demos

—Urban Air Mobility (UAM) Plans

It is imperative that the meeting be held on this date to accommodate the scheduling priorities of the key participants.

Patricia Rausch,
Advisory Committee Management Officer, National Aeronautics and Space Administration.

[FR Doc. 2020-13613 Filed 6-23-20; 8:45 am]

BILLING CODE 7510-13-P